DEPARTMENT OF AGRICULTURE

Federal Crop Insurance Corporation

[Docket No. FCIC-15-0006]

Notice of Request for Renewal of a Currently Approved Information Collection

AGENCY: Federal Crop Insurance Corporation, USDA.

ACTION: Renewal of approval of an information collection; comment request.

SUMMARY: This notice announces a public comment period on the information collection requests (ICRs) associated with the Multiple Peril Crop Insurance.

DATES: Comments that we receive on this notice will be accepted until close of business November 24, 2015.

ADDRESSES: FCIC prefers that comments be submitted electronically through the Federal eRulemaking Portal. You may submit comments, identified by Docket ID No. FCIC-15-0006, by any of the following methods:

• Federal eRulemaking Portal: http://www.regulations.gov. Follow the instructions for submitting comments.

• Mail: Director, Product Administration and Standards Division, Risk Management Agency, United States Department of Agriculture, P.O. Box 419205, Kansas City, MO 64133-6205.

All comments received, including those received by mail, will be posted without change to http://www.regulations.gov, including any personal information provided, and can be accessed by the public. All comments must include the agency name and docket number for this notice. For detailed instructions on submitting comments and additional information, see http://www.regulations.gov. If you are submitting comments electronically through the Federal eRulemaking Portal and want to attach a document, we ask that it be in a text-based format. If you want to attach a document that is a scanned Adobe PDF file, it must be scanned as text and not as an image, thus allowing FCIC to search and copy certain portions of your submissions. For questions regarding attaching a document that is a scanned Adobe PDF file, please contact the RMA Web Content Team at (816) 823-4694 or by email at rmaweb.content@rma.usda.gov.

Privacy Act: Anyone is able to search the electronic form of all comments received for any dockets by the name of the individual submitting the comment (or signing the comment, if submitted on behalf of an association, business, labor union, etc.). You may review the complete User Notice and Privacy Notice for Regulations.gov at http://www.regulations.gov/#!privacyNotice.

FOR FURTHER INFORMATION CONTACT: Director, Product Administration and Standards Division, Risk Management Agency, United States Department of Agriculture, Beacon Facility, Stop 0812, Room 421, P.O. Box 419205, Kansas City, MO 64141-6205, telephone (816) 926-7730.

SUPPLEMENTARY INFORMATION: Title: Multiple Peril Crop Insurance.

OMB Number: 0563-0053.

Expiration Date of Approval: January 31, 2016.

Type of Request: Renewal of a currently approved information collection.

Abstract: The information collection requirements for this renewal package are necessary for administering the Federal crop insurance program. Producers are required to report specific data when they apply for Federal crop insurance and report acreage, yields, and notices of loss. Insurance companies accept applications; issue policies; establish and provide insurance coverage; compute liability, premium, subsidies, and losses; indemnify producers; and report specific data to FCIC as required in Appendix III/M13 Handbook. Commodities for which Federal crop insurance is available are included in this information collection package.

FCIC is requesting the Office of Management and Budget (OMB) to renew the approval of this information collection for an additional 3 years.

The purpose of this notice is to solicit comments from the public concerning this information collection. These comments will help us:

(1) Evaluate whether the proposed collection of information is necessary for the proper performance of the functions of the agency, including whether the information has practical utility;

(2) Evaluate the accuracy of the agency's estimate of the burden of the proposed collection of information;

(3) Enhance the quality, utility, and clarity of the information to be collected; and

(4) Minimize the burden of the collection of information on those who are to respond (such as through the use of appropriate automated, electronic, mechanical, or other forms of information technology, e.g., permitting electronic submission of responses).

Estimate of Burden: The public reporting burden for this collection of information are estimated to average 0.76 of an hour per response.

Respondents/Affected Entities: Producers and insurance companies reinsured by FCIC.

Estimated Annual Number of Respondents: 590,750

Estimated Annual Number of Responses Per Respondent: 19.2

Estimated Annual Number of Responses: 11,331,829

Estimated Total Annual Burden on Respondents: 8,555,856

All responses to this notice will be summarized and included in the request for OMB approval. All comments will also become a matter of public record.

Signed in Washington, DC, on September 21, 2015.
Brandon C. Willis,
Manager, Federal Crop Insurance Corporation.

[FR Doc. 2015-24413 Filed 9-24-15; 8:45 am]

BILLING CODE 3410-34-P